DEPARTMENT OF LABOR

Bureau of Labor Statistics

Submission for OMB Emergency Review: Comment Request

August 24, 2010.

The Department of Labor has submitted the following (see below) information collection request (ICR), utilizing emergency review procedures, to the Office of Management and Budget (OMB) for review and clearance in accordance with the Paperwork Reduction Act of 1995 (PRA95) (Pub. L. 104-13, 44 U.S.C. Chapter 35) and 5 CFR 1320.13. OMB approval has been requested by September 16, 2010. A copy of this ICR, with applicable supporting documentation, including among other things a description of the likely respondents, proposed frequency of responses, and estimated total burden may be obtained from the RegInfo.gov Web site at http://www.reginfo.gov/public/do/PRAMain or by contacting Linda Watts-Thomas on 202-693-4223 (this is not a toll-free number)/e-mail: DOL_PRA_PUBLIC@dol.gov. Interested parties are encouraged to send comments to the Office of Information and Regulatory Affairs, Attn: OMB Desk Officer for the Department of Labor—BLS, Office of Management and Budget, Room 10235, Washington, DC 20503, Telephone: 202-395-7314/Fax: 202-395-6974 (these are not toll-free numbers), e-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Bureau of Labor Statistics.

Type of Review: Revision of currently approved collection.

Title of Collection: National Compensation Survey.

OMB Control Number: 1220-0164.

Affected Public: Private sector establishments and State and local governments.

| Total respondents | Frequency | Total annual responses | Average minutes per response | Burden hours
Private Sector | 34,929 | Annual | 63,508 | 46.58 | 49,303
State and Local Governments | 4,974 | Annual | 10,312 | 34.92 | 6,002
Totals to NCS Program | 39,904 |  | 73,820 |  | 55,305

Total Burden Cost: (capital/startup): $0.

Total Burden Cost: (operating/maintenance): $0.

Description: The National Compensation Survey (NCS) is an ongoing survey of earnings and benefits among private firms, State, and local government. NCS is the integration of the sampling, collection, and processing for the Employment Cost Index (ECI), the Employee Benefits Survey (EBS), and the Locality Pay Surveys (LPS) into a single, unified program of compensation statistics. This integration improves data for policymakers and researchers, reduces respondent burden, improves the utilization of BLS resources, and enhances the published measures of compensation. Data from the integrated program include estimates of wages by job levels covering broad groups of related occupations, and data that directly links benefit plan costs with detailed plan provisions. The integrated program's single sample also produces both time-series indexes and cost levels for industry and occupational groups, thereby increasing the analytical potential of the data. Benefits of the integrated sample include: improved measures of trends; better integration of benefit costs and plan provisions; data for narrow occupations; and broad regional and occupational coverage. NCS employs probability methods for selection of occupations. This ensures that sampled occupations represent all occupations in the workforce, while minimizing the reporting burden on respondents. Data from the NCS are critical for setting Federal white-collar salaries, determining monetary policy (as a Principal Federal Economic Indicator), and for compensation administrators and researchers in the private sector. The survey collects data from a sample of employers. The data consist of information about the duties, responsibilities, and compensation (earnings and benefits) for a sample of occupations for each sampled employer.

The NCS is proposing to add two questions on domestic partner benefits. This collection timeline will allow data on domestic partner benefits to be published in 2011. These questions will only be asked of wage and benefits sample members who offer defined benefit (DB) and/or health benefits to their employees. Currently in private industry DB plans are offered in 11% of establishments and health benefits to 63%. In State and local governments DB access is 84% and health benefits access is 88%. These two questions will add approximately 180 hours annually to private industry sample respondent burden hours (14,614 total sample of private establishments). For the government sample these two questions will add approximately 62 hours annually to government respondent burden hours (2,164 total sample of State and local government establishments).

Why are we requesting Emergency Processing? Emergency clearance is being sought for the National Compensation Survey for the purpose of the addition of two questions on domestic partner benefits to the existing “Other Benefits” questions. The Department of Labor's LGBT (Lesbian, Gay, Bisexual, and Transgender) roundtable and recent Congressional actions on the proposed Domestic Partnership Benefits and Obligations Act (HR 2517) have greatly increased the need for information on domestic partner benefits in both private industry and State and local governments. In order for BLS to produce data in 2011, NCS data collection of these questions must begin in September 2010 during the NCS collection quarter (which starts September 16, 2010).

The BLS will submit an ICR immediately following this approval, as the current NCS package expires in January 2011. This ICR will be submitted to OMB under the standard clearance process and will give the public a second opportunity chance to comment on this collection in accordance with PRA95 (44 USC 3506).

Linda Watts-Thomas,
Acting, Departmental Clearance Officer.

[FR Doc. 2010-21617 Filed 8-30-10; 8:45 am]

BILLING CODE 4510-24-P